ANTITRUST MODERNIZATION COMMISSION

Notice of Public Hearings

AGENCY: Antitrust Modernization Commission.

ACTION: Notice of public hearings.

SUMMARY: The Antitrust Modernization Commission will hold public hearings on October 18, 2006. The topics of the hearings are the McCarran-Ferguson Act and the Shipping Act.

DATES: October 18, 2006, 10 a.m. to 12 p.m. and 1 p.m. to 3 p.m. Interested members of the public may attend. Registration is not required.

ADDRESSES: Federal Trade Commission, Conference Center, 601 New Jersey Avenue, NW., Washington, DC.

FOR FURTHER INFORMATION CONTACT: Andrew J. Heimert, Executive Director & General Counsel, Antitrust Modernization Commission. Telephone: (202) 233-0701; e-mail: info@amc.gov. Internet: http://www.amc.gov.

SUPPLEMENTARY INFORMATION: The purpose of these hearings is for the Antitrust Modernization Commission to take testimony and receive evidence regarding the McCarran-Ferguson Act and the Shipping Act as illustrative examples of immunities and exemptions for purposes of the Commission's general evaluation of antitrust immunities and exemptions.

The hearing on the McCarran-Ferguson Act will consist of one panel, which will begin at 10 a.m. and conclude at 12 p.m. The hearing on the Shipping Act will consist of one panel, which will begin at 1 p.m. and conclude at 3 p.m. Materials relating to the hearings, including lists of witnesses and the prepared statements of the witnesses, will be made available on the Commission's Web site (www.amc.gov) in advance of the hearings.

Interested members of the public may submit written testimony on the subject of the hearing in the form of comments, pursuant to the Commission's request for comments. See 70 FR 28,902-28,907 (May 19, 2005). Members of the public will not be provided with an opportunity to make oral remarks at the hearings. The AMC is holding this hearing pursuant to its authorizing statute. Antitrust Modernization Commission Act of 2002, Pub. L. 107-273, § 11057(a), 116 Stat. 1758, 1858.

Dated: September 26, 2006.
By direction of the Antitrust Modernization Commission.
Andrew J. Heimert,
Executive Director & General Counsel, Antitrust Modernization Commission.

[FR Doc. E6-16076 Filed 9-28-06; 8:45 am]

BILLING CODE 6820-YH-P